DEPARTMENT OF ENERGY

Federal Energy Regulatory Commission

[Project No. 13642-000]

GB Energy Park, LLC; Notice of Preliminary Permit Application Accepted for Filing and Soliciting Comments, Motions To Intervene, and Competing Applications

February 25, 2010.

On December 11, 2009 and revised on January 14, 2010, GB Energy Park, LLC filed an application for a preliminary permit, pursuant to section 4(f) of the Federal Power Act, proposing to study the feasibility of the Gordon Butte Pumped Storage Project, which would be located near Martinsdale in Meagher County, Montana. The sole purpose of a preliminary permit, if issued, is to grant the permit holder priority to file a license application during the permit term. A preliminary permit does not authorize the permit holder to perform any land disturbing activities or otherwise enter upon lands or waters owned by others without the owners' express permission.

The proposed project would consist of: (1) A new upper reservoir with a surface area of 50 acres and a storage capacity of 4,050 acre-feet at a normal maximum surface elevation of 6,020 feet; (2) a new 50-foot-high, 9,000-foot-long earthen and roller compacted concrete embankment at the upper reservoir; (3) a new lower reservoir, with a surface area of 80 acres and a storage capacity of 4,050 acre-feet at a normal maximum surface elevation of 4,990 feet; (4) a new 50-foot-high, 10,000-foot-long earthen and roller compacted concrete embankment at the lower reservoir; (5) a new 25-foot-diameter, 4,000-foot-long steel-lined tunnel connecting to; (6) a new powerhouse containing two reversible turbine generator units having a total installed capacity of 350 megawatts; (7) an existing 4-foot-wide by 4-foot-deep, 3-mile-long canal carrying flows diverted from Cottonwood Creek by an existing diversion structure, or a new 3-foot-diameter, 2,400-foot-long pipeline carrying flows from an existing collection point on the South Fork of the Musselshell River, terminating at; (8) a new pumphouse delivering initial fill and make-up flows to the lower reservoir via a 3-foot-diameter, approximately 250-foot-long pipeline; (9) a new substation; (10) a new 500-kilovolt (kV), 5.7-mile-long transmission line interconnecting with an existing 500-kV line, or a new 100-kV, 1.1-mile-long transmission line interconnecting to an existing 100-kV line; (11) 7.4 miles of new 20-foot-wide gravel access roads; and (12) appurtenant facilities. The proposed project would have an average annual generation of 1,300 gigawatt-hours.

Applicant Contact: Carl Borgquist, GB Energy Park, LLC, 1970 Stadium Drive, Suite 3, Bozeman, MT 59715; phone: (406) 585-3006.

FERC Contact: Dianne Rodman, (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13642) in the docket number field to access the document. For assistance, contact FERC Online Support.

Kimberly D. Bose,
Secretary.

[FR Doc. 2010-4605 Filed 3-4-10; 8:45 am]

BILLING CODE 6717-01-P